DEPARTMENT OF DEFENSE

Department of the Air Force

Notice of Intent To Grant An Exclusive Patent License

AGENCY: Department of the Air Force, DoD.

ACTION: Notice.

SUMMARY: Pursuant to the provisions of Part 404 of Title 37, code of Federal Regulations, which implements Public Law 96-517, as amended, the Department of the Air Force announces its intention to grant Northeastern Electronics Company, Inc., a corporation of New York, having a place of business at 102 State Route 5 West, Elbridge, New York, 13060, an exclusive license in any right, title and interest the Air Force has in:

U.S. Patent No. 6,275,050, issued August 14, 2001, entitled “Apparatus and Method to Detect Corrosion in Metal Junctions” by Frank H. Born, John E. Dodge, William G. Duff, Laurence J. Reynolds, and Arlie G. Turner, all as co-inventors.

DATES: A license for this patent will be granted unless a written objection is received within fifteen (15) days from the date of publication of this Notice.

FOR FURTHER INFORMATION CONTACT: Written objection should be sent to: Air Force Research Laboratory, Office of the Staff Judge Advocate, AFRL/RIJ, 26 Electronic Parkway, Rome, New York 13441-4514. Telephone: (315) 330-2087; Facsimile (315) 330-7583.

Bao-Anh Trinh,
Air Force Federal Register Liaison Officer.

[FR Doc. E8-8887 Filed 4-23-08; 8:45 am]

BILLING CODE 5001-05-P